COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add product(s) to the Procurement List that will be furnished by nonprofit agencies employing persons who are blind or have other severe disabilities, and delete service(s) previously furnished by such agencies.

DATES: Comments must be received on or before: August 25, 2024.

ADDRESSES: Committee for Purchase From People Who Are Blind or Severely Disabled, 355 E Street SW, Washington, DC 20024.

FOR FURTHER INFORMATION CONTACT: For further information or to submit comments contact: Michael R. Jurkowski, telephone: (703) 489-1322, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following product(s) are proposed for addition to the Procurement List for production by the nonprofit agencies listed:

Product(s)

NSN(s)—Product Name(s):

8415-01-675-9164—Shirt, Combat, Army, Type III, FR, Female, OCP 2015, XX-Small

8415-01-675-9170—Shirt, Combat, Army, Type III, FR, Female, OCP2015, X-Small

8415-01-675-9171—Shirt, Combat, Army, Type III, FR, Female, OCP2015, Small

8415-01-675-9172—Shirt, Combat, Army, Type III, FR, Female, OCP2015, Medium

8415-01-675-9175—Shirt, Combat, Army, Type III, FR, Female, OCP2015, Large

8415-01-675-9173—Shirt, Combat, Army, Type III, FR, Female, OCP2015, X-Large

8415-01-675-9176—Shirt, Combat, Army, Type III, FR, Female, OCP2015, XX-Large

Authorized Source of Supply: Goodwill Industries of South Florida, Inc., Miami, FL

Authorized Source of Supply: Southeastern Kentucky Rehabilitation Industries, Inc., Corbin, KY

Authorized Source of Supply: Mount Rogers Community Services Board, Wytheville, VA

Authorized Source of Supply: Winston-Salem Industries for the Blind, Inc., Winston-Salem, NC

Authorized Source of Supply: Alphapointe, Kansas City, MO

Contracting Activity: DEFENSE LOGISTICS AGENCY, DLA TROOP SUPPORT

The Shirts, Combat, Army, Type III, FR, Female, OCP 2015 were administratively added to the Procurement List 04/15/2019 in accordance with 41 CFR 51-6.13(b), as an additional size, color or other variation of an existing PL product. The requirement on the PL was set at 65% of DLA Troop Support's total requirement. For the Shirt, Combat, Army, Type II, FR, Female, OCP 2015, DLA Troop Support and the authorized sources of supply, assisted by the central nonprofit agency, have agreed that the mandatory purchase requirement will be 100%. The Committee intends to amend the Procurement List to reflect the agreed percentage.

Product(s)

NSN(s)—Product Name(s):

650023201N—Face Shield, .01″ Polycarbonate, Elastic Headband, IIJA Compliant

650023202N—Face Shield, .008″ PET, Elastic Headband, IIJA Compliant

650017601N—Face Shield, with Glasses Frame, PET, One Size, IIJA Compliant

650017701N—Face Shield, with Glasses Frame, PET, One Size

Authorized Source of Supply: Association for Vision Rehabilitation and Employment, Inc., Binghamton, NY

Contracting Activity: DEFENSE LOGISTICS AGENCY, DLA TROOP SUPPORT

Distribution: B-List

Mandatory for: Total Government Requirement

Deletions

The following service(s) are proposed for deletion from the Procurement List:

Service(s)

Service Type: Mailroom Operation

Mandatory for: National Guard Bureau, Arlington Hall Building One and Two, Arlington, VA

Authorized Source of Supply: Didlake, Inc., Manassas, VA

Contracting Activity: DEPT OF THE ARMY, W39L USA NG READINESS CENTER

Service Type: Grounds Maintenance

Mandatory for: U.S. Army Reserve Center: 18791 Snouffers School Road, Gaithersburg, MD

Contracting Activity: DEPT OF THE ARMY, W6QM MICC CTR-FT DIX (RC)

Service Type: Mail and Messenger Service

Mandatory for: U.S. Army, U.S. Army Test and Evaluation Command, Aberdeen Proving Ground, MD

Authorized Source of Supply: DePaul Industries, Portland, OR

Contracting Activity: DEPT OF THE ARMY, W6QK ACC-APG

Service Type: Custodial Service

Mandatory for: U.S. Army, Des Moines Military Entrance Processing Station, Johnston, IA

Contracting Activity: DEPT OF THE ARMY, W6QM MICC-FT KNOX

Service Type: Janitorial/Custodial

Mandatory for: Automated Flight Service Station and ATC Towere: Bowman Field, Louisville, KY

Contracting Activity: TRANSPORTATION, DEPARTMENT OF, DEPT OF TRANS

Service Type: Custodial Services

Mandatory for: U.S. Capitol Building, Capitol Visitor Center, Washington, DC

Authorized Source of Supply: Fedcap Rehabilitation Services, Inc., New York, NY

Contracting Activity: Architect of the Capitol

Service Type: Janitorial/Grounds Maintenance

Mandatory for: U.S. Mint: 155 Hermann Street, San Francisco, CA

Authorized Source of Supply: Toolworks, Inc., San Francisco, CA

Contracting Activity: UNITED STATES MINT, DEPT OF TREAS/U.S. MINT

Service Type: Janitorial Service

Mandatory for: U.S. Fish and Wildlife Service, Rocky Mountain Arsenal National Wildlife Refuge, Commerce City, CO

Authorized Source of Supply: Bayaud Enterprises, Inc., Denver, CO

Contracting Activity: U.S. FISH AND WILDLIFE SERVICE, U.S. FISH AND WILDLIFE

Michael R. Jurkowski,
Director, Business Operations.

[FR Doc. 2024-16435 Filed 7-25-24; 8:45 am]

BILLING CODE 6353-01-P